DEPARTMENT OF JUSTICE

Notice of Lodging of Proposed Consent Decree Under the Clean Air Act

On January 16, 2025, the Department of Justice lodged a proposed consent decree with the United States District Court for the Eastern District of Pennsylvania in the lawsuit entitled United States v. Turn 14 Distribution, Inc., Civil Action No. 2:25-cv-00281-JP.

The United States filed a complaint against Turn 14 Distribution, Inc. (“Turn 14”) alleging violations of the Clean Air Act related to Turn 14's offer for sale and sale of devices that defeat emission controls in automobiles. The proposed consent decree resolves the claims alleged in the complaint. The proposed consent decree requires Turn 14 to pay a penalty of $3,600,000 based on its ability to pay and to perform injunctive relief.

The publication of this notice opens a period for public comment on the proposed consent decree. Comments should be addressed to the Assistant Attorney General, Environment and Natural Resources Division, and should refer to United States v. Turn 14 Distribution, Inc. D.J. Ref. No. 90-5-2-1-12601. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed consent decree may be examined and downloaded at this Justice Department website: https://www.justice.gov/enrd/consent-decrees. If you require assistance accessing the proposed consent decree, you may request assistance by email or by mail to the addresses provided above for submitting comments.

Jason A. Dunn,
Assistant Section Chief, Environmental Enforcement Section, Environment and Natural Resources Division.

[FR Doc. 2025-01577 Filed 1-22-25; 8:45 am]

BILLING CODE 4410-15-P